DEPARTMENT OF TRANSPORTATION

Federal Aviation Administration

Public Notice for Waiver of Aeronautical Land-Use Assurance John H. Batten Airport, Racine, WI

AGENCY: Federal Aviation Administration, DOT.

ACTION: Notice of intent of waiver with respect to land.

SUMMARY: The Federal Aviation Administration (FAA) is giving notice that a portion of the airport property for intersection improvements to Hwy 32 and Three Mile road is not needed for aeronautical use as currently identified on the Airport Layout Plan.

This parcel was originally acquired through Grant No. 3-55-0068-06. The parcel is presently open and undeveloped. The land comprising this parcel is no longer needed for aeronautical purposes and there are no impacts by allowing the airport to dispose of this property. The airport wishes to transfer ownership of the land to the Wisconsin Department of Transportation to provide for right of way for the intersection improvements for Hwy 32 and Three Mile Road. Income from the sale will be used to improve the airport.

In accordance with section 47107(h) of title 49, United States Code, this notice is required to be published in the Federal Register 30 days before modifying the land-use assurance that requires the property to be used for an aeronautical purpose.

DATES: Comments must be received on or before August 20, 2001.

FOR FURTHER INFORMATION CONTACT: Ms. Sandra E. DePottey, Program Manager, Federal Aviation Administration, Airports District Office, 6020 28th Avenue South, Room 102, Minneapolis, MN 55450-2706. Telephone Number (612) 713-4363/FAX Number (612) 713-4364. Documents reflecting this FAA action may be reviewed at this same location or at the John H. Batten Airport, Racine, WI.

SUPPLEMENTARY INFORMATION: This notice announces that the FAA intends to authorize the disposal of the subject airport property at John H. Batten Airport, Racine, WI. Approval does not constitute a commitment by the FAA to financially assist in the disposal of the subject airport property nor a determination that all measures covered by the program are eligible for Airport Improvement Program funding from the FAA. The disposition of proceeds from the disposal of the airport property will be in accordance with FAA's Policy and Procedures Concerning the Use of Airport Revenue, published in the Federal Register on February 16, 1999.

Issued in Minneapolis, MN on June 13, 2001.
Nancy M. Nistler,
Manager, Minneapolis Airports District Office, FAA, Great Lakes Region.

[FR Doc. 01-18239 Filed 7-20-01; 8:45 am]

BILLING CODE 4910-13-M